DEPARTMENT OF AGRICULTURE

Food and Nutrition Service

7 CFR Part 210

RIN 0584-AC38

National School Lunch Program and School Breakfast Program: Additional Menu Planning Approaches

Correction

In rule document 00-11259, beginning on page 26904, in the issue of Tuesday, May 9, 2000, make the following corrections:

§210.2 [Corrected]

1. On page 26912, in the third column, in §210.2, five stars should be added after the definition of “Food item”.

2. On page 26915, the first table should read as follows:

[FR Doc. C0-11259 Filed 5-16-00; 8:45 am]

BILLING CODE 1505-01-D